DEPARTMENT OF ENERGY

Federal Energy Regulatory Commission

Combined Notice of Filings #1

Take notice that the Commission received the following electric rate filings:

Docket Numbers: ER13-1541-001.

Applicants: Campo Verde Solar, LLC.

Description: Amendment to Application and Initial Baseline Tariff Filing to be effective 8/1/2013.

Filed Date: 5/23/13.

Accession Number: 20130523-5040.

Comments Due: 5 p.m. ET 6/13/13.

Docket Numbers: ER13-1546-000.

Applicants: Ameren Illinois Company.

Description: Revised WVPA Meter Replacement Letter Agreement RS 141 to be effective 5/24/2013.

Filed Date: 5/23/13.

Accession Number: 20130523-5112.

Comments Due: 5 p.m. ET 6/13/13.

Docket Numbers: ER13-1547-000.

Applicants: Midcontinent Independent System Operator, Inc., Cleco Power LLC.

Description: 05-23-13 Cleco Rate Schedules.v2 to be effective 12/19/2013.

Filed Date: 5/23/13.

Accession Number: 20130523-5113.

Comments Due: 5 p.m. ET 6/13/13.

Docket Numbers: ER13-1549-000.

Applicants: New England Power Company.

Description: New England Power Company submits Notice of Cancellation of Service Agreement for Network Integration Transmission Service with Central Vermont Public Service Corporation.

Filed Date: 5/23/13.

Accession Number: 20130523-5137.

Comments Due: 5 p.m. ET 6/13/13.

Docket Numbers: ER13-1550-000.

Applicants: Massachusetts Electric Company.

Description: Massachusetts Electric Company submits Notice of Cancellation of Interconnection Agreement with Fortistar Methane Group Gas Recovery Systems, LLC.

Filed Date: 5/23/13.

Accession Number: 20130523-5138.

Comments Due: 5 p.m. ET 6/13/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 24, 2013.
Nathaniel J. Davis, Sr.,
Deputy Secretary.

[FR Doc. 2013-13579 Filed 6-6-13; 8:45 am]

BILLING CODE 6717-01-P